DEPARTMENT OF HOMELAND SECURITY

Private Sector Office; Economic Impacts on Security Measures on the Travel and Tourism Industry

AGENCY: Office of the Secretary, Private Sector Office, DHS.

ACTION: Submission for OMB emergency review; comment request.

SUMMARY: The Department of Homeland Security, Office of the Secretary, Private Sector Office has submitted the following information collection request (ICR), utilizing emergency review procedures, to the Office of Management and Budget (OMB) for review and clearance in accordance with the Paperwork Reduction Act of 1995 (Pub. L. 104-13, 44 U.S.C. Chapter 35). A copy of this ICR, with applicable supporting documentation, may be obtained by calling Jenny Randall, 202-282-9801 (this is not a toll free number).

DATES: Comments are encouraged and will be accepted until December 28, 2005. This process is conducted in accordance with 5 CFR 1320.10.

ADDRESSES: Comments and questions about this Information Collection Request should be forwarded to the Office of Information and Regulatory Affairs, Attn: OMB Desk Officer for the Department of Homeland Security, Office of Management and Budget, Room 10235, Washington, DC 20503.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

FOR FURTHER INFORMATION CONTACT: Jenny Randall, 202-282-9801 (this is not a toll free number).

Analysis

Agency: Department of Homeland Security, Office of the Secretary, Private Sector Office.

Title: Economic Impacts of Mandatory and Voluntary Actions by the Travel and Tourism Industry.

OMB Number: 1601-NEW.

Frequency: One time collection.

Affected Public: Travel and Tourism Industry.

Number of Respondents: 4,514.

Estimated Time per Respondent: 1 hour.

Total Burden Hours: 4,514.

Total Burden Cost (capital/startup): $0.00.

Total Burden Cost (operating/maintaining): $0.00.

Description: The Department of Homeland Security, Office of the Secretary, Private Sector Office will submit the survey to the Travel and Tourism Industry. Three representative associations will disseminate the survey to their membership. This ensures the protection of their membership contact information. The information requested relates to the economic impact/costs of voluntary actions and mandated requirements of security on the travel and tourism industry. The information collected for this survey will be compiled by the Department of Homeland Security, Office of the Secretary, Private Sector Office. This information will be analyzed to provide the Secretary, DHS component agencies and industry a better picture regarding the hypothesized and actual economic impacts of voluntary and mandated security measures.

Dated: November 17, 2005.
Scott Charbo,
Chief Information Officer.

[FR Doc. 05-23311 Filed 11-25-05; 8:45 am]

BILLING CODE 4410-10-P